DEPARTMENT OF ENERGY

[Docket No. EA-265]

Application to Export Electric Energy; Ontario Energy Trading International Corp.

AGENCY: Office of Fossil Energy, DOE.

ACTION: Notice of application.

SUMMARY: Ontario Energy Trading International Corp. (Ontario Energy) has applied for authority to transmit electric energy from the United States to Canada pursuant to section 202(e) of the Federal Power Act.

DATES: Comments, protests or requests to intervene must be submitted on or before May 29, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On April 26, 2002, the Office of Fossil Energy (FE) of the Department of Energy (DOE) received an application from Ontario Energy to transmit electric energy from the United States to Canada. Ontario Energy is a Delaware corporation having its principal place of business at Toronto, Ontario, Canada. Ontario Energy is in the business of marketing electricity in the United States and Canada and periodically exports electricity to which it has title into Canada for sales to Canadian utilities, power marketers and end-use customers. Ontario Energy has no franchised service territory in the United States.

Ontario Energy is an indirect, wholly-owned subsidiary of Ontario Power Generation Inc., (OPG) a Canadian corporation headquartered in Toronto, Ontario, Canada. Ontario Energy's direct parent is Ontario Energy Trading, Inc., a Delaware corporation, which in turn is owned by Ontario Power Generation Energy Trading, Inc., an Ontario corporation. OPG, through various subsidiary corporations, owns and operates power plants and related generation assets. OPG does not own transmission or distribution assets. OPG's generation assets previously were owned by Ontario Hydro, the former government-owned utility providing generation, transmission and certain distribution services in Ontario.

Ontario Energy proposes to arrange for the delivery of electric energy to Canada over the existing international transmission facilities owned by Basin Electric Power Cooperative, Bonneville Power Administration, Citizen Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by Engage America, as more fully described in the application, has previously been authorized by a Presidential permit issued pursuant to Executive Order 10485, as amended.

The applicant anticipates that the electric power market in the Province of Ontario will be opened to competition on May 1, 2002. Ontario Energy has requested expedited processing of its application so that it may participate in this competitive market during the summer peak period. Accordingly, DOE has set a 15-day comment period for this proceeding.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the Ontario Energy application to export electric energy to Canada should be clearly marked with Docket EA-265. Additional copies are to be filed directly with Joel Singer, Vice President, Regulatory Affairs, Ontario Power Generation Inc., 700 University Avenue, Toronto, Ontario M5G 1X6 Canada AND Jerry Pfeiffer, Energy Industries Advisor, Victor A. Contract, Skadden, Arps, Slate, Meagher & Flom LLP, 1440 New York Avenue, N.W., Washington, DC 20005-2111.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on May 8, 2002.
Anthony J. Como,
Deputy Director, Electric Power Regulation, Office of Coal & Power Import/Export, Office of Coal & Power Systems, Office of Fossil Energy.

[FR Doc. 02-11930 Filed 5-13-02; 8:45 am]

BILLING CODE 6450-01-P